DEPARTMENT OF TRANSPORTATION

Federal Aviation Administration

14 CFR Part 97

[Docket No. 31337 Amdt. No. 3927]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPs) and associated Takeoff Minimums and Obstacle Departure Procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective November 2, 2020. The compliance date for each SIAP, associated Takeoff Minimums, and ODP is specified in the amendatory provisions.

The incorporation by reference of certain publications listed in the regulations is approved by the Director of the Federal Register as of November 2, 2020.

ADDRESSES: Availability of matters incorporated by reference in the amendment is as follows:

For Examination

1. U.S. Department of Transportation, Docket Ops-M30, 1200 New Jersey Avenue SE, West Bldg., Ground Floor, Washington, DC, 20590-0001.

2. The FAA Air Traffic Organization Service Area in which the affected airport is located;

3. The office of Aeronautical Navigation Products, 6500 South MacArthur Blvd., Oklahoma City, OK 73169 or,

4. The National Archives and Records Administration (NARA). For information on the availability of this material at NARA, email fedreg.legal@nara.gov or go to: https://www.archives.gov/federal-register/cfr/ibr-locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg. 29, Room 104, Oklahoma City, OK 73169. Telephone: (405) 954-4164.

SUPPLEMENTARY INFORMATION: This rule amends 14 CFR part 97 by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part 97.20. The applicable FAA forms are FAA Forms 8260-3, 8260-4, 8260-5, 8260-15A, and 8260-15B, when required by an entry on 8260-15A.

The large number of SIAPs, Takeoff Minimums and ODPs, their complex nature, and the need for a special format make publication in the Federal Register expensive and impractical. Further, airmen do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFR sections and specifies the types of SIAPS, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPS as identified in the amendatory language for part 97 of this final rule.

The Rule

This amendment to 14 CFR part 97 is effective upon publication of each separate SIAP, Takeoff Minimums and ODP as amended in the transmittal. Some SIAP and Takeoff Minimums and textual ODP amendments may have been issued previously by the FAA in a Flight Data Center (FDC) Notice to Airmen (NOTAM) as an emergency action of immediate flight safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C. 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, Navigation (air).

Issued in Washington, DC, on October 16, 2020.
Wade Terrell,
Aviation Safety Manager, Flight Procedures & Airspace Group Flight Technologies and Procedures Division.

Adoption of the Amendment

Accordingly, pursuant to the authority delegated to me, Title 14, Code of Federal Regulations, Part 97 (14 CFR part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

Effective 3 December 2020

Paso Robles, CA, Paso Robles Muni, VOR RWY 19, Amdt 5

Fernandina Beach, FL, KFHB, RNAV (GPS) RWY 22, Amdt 1E

Keokuk, IA, KEOK, NDB RWY 26, Amdt 1B, CANCELLED

Shreveport, LA, Shreveport Downtown, RNAV (GPS) RWY 14, Amdt 1B

Shreveport, LA, Shreveport Downtown, RNAV (GPS) RWY 23, Orig-A

Columbia, SC, Jim Hamilton L B Owens, RNAV (GPS) RWY 31, Amdt 1A

Dallas, TX, Dallas Executive, ILS OR LOC RWY 31, Amdt 9A

Dallas, TX, Dallas Executive, RNAV (GPS) RWY 17, Orig-B

Dallas, TX, Dallas Executive, RNAV (GPS) RWY 31, Amdt 1B

Dallas, TX, Dallas Executive, RNAV (GPS) RWY 35, Orig-B

Dallas, TX, Dallas Executive, VOR RWY 17, Amdt 1B

Hebbronville, TX, Jim Hogg County, NDB RWY 13, Amdt 4, CANCELLED

Farmville, VA, KFVX, NDB RWY 3, Amdt 6A, CANCELLED

Effective 31 December 2020

King Cove, AK, King Cove, COLD BAY TWO, Graphic DP

King Cove, AK, King Cove, RNAV (GPS)-A, Orig-C

King Cove, AK, King Cove, Takeoff Minimums and Obstacle DP, Amdt 1

King Salmon, AK, King Salmon, Takeoff Minimums and Obstacle DP, Amdt 2

Koyuk, AK, Koyuk Alfred Adams, NDB RWY 1, Amdt 1C, CANCELLED

Koyuk, AK, Koyuk Alfred Adams, RNAV (GPS) RWY 1, Amdt 1

Sleetmute, AK, Sleetmute, RNAV (GPS) RWY 33, Orig

Sleetmute, AK, Sleetmute, SPARREVOHN ONE, Graphic DP

Sleetmute, AK, Sleetmute, Takeoff Minimums and Obstacle DP, Orig

Springdale, AR, Springdale Muni, VOR/DME RWY 36, Amdt 9D, CANCELLED

Gooding, ID, Gooding Muni, Takeoff Minimums and Obstacle DP, Amdt 1

Bardstown, KY, Samuels Field, VOR RWY 3, Amdt 1, CANCELLED

Campbellsville, KY, Taylor County, VOR/DME-A, Amdt 7, CANCELLED

Marion, KY, Marion-Crittenden Co James C Johnson Rgnl, Takeoff Minimums and Obstacle DP, Amdt 1A

Pittsfield, ME, Pittsfield Muni, NDB RWY 36, Amdt 4E, CANCELLED

Flint, MI, KFNT, RADAR-1, Amdt 8A, CANCELLED

Port Huron, MI, KPHN, RNAV (GPS) RWY 4, Amdt 1A

Port Huron, MI, KPHN, RNAV (GPS) RWY 22, Amdt 1A

South St Paul, MN, South St Paul Muni-Richard E Fleming Fld, NDB-B, Amdt 4A, CANCELLED

St Paul, MN, St Paul Downtown Holman Fld, NDB RWY 31, Amdt 9, CANCELLED

St Paul, MN, Lake Elmo, NDB RWY 4, Amdt 5A, CANCELLED

Clinton, MO, Clinton Rgnl, NDB RWY 4, Amdt 8A, CANCELLED

Clinton, MO, Clinton Rgnl, NDB RWY 22, Amdt 9A, CANCELLED

Gulfport, MS, KGPT, ILS Z OR LOC Z RWY 14, ILS Z RWY 14 (SA CAT II), Amdt 15A

Gulfport, MS, KGPT, VOR Z OR TACAN Z RWY 14, Amdt 4A

Twin Bridges, MT, Ruby Valley Field, BRIDGES TWO, Graphic DP

Twin Bridges, MT, Ruby Valley Field, DILLON TWO, Graphic DP

Twin Bridges, MT, KRVF, RNAV (GPS) RWY 17, Orig-C

Twin Bridges, MT, KRVF, RNAV (GPS) RWY 35, Orig-C

Twin Bridges, MT, Ruby Valley Field, Takeoff Minimums and Obstacle DP, Orig-A

New Town, ND, 05D, RNAV (GPS) RWY 12, Orig

New Town, ND, 05D, RNAV (GPS) RWY 30, Orig

Norfolk, NE, Norfolk Rgnl/Karl Stefan Memorial Fld, VOR RWY 14, Amdt 8A

Norfolk, NE, Norfolk Rgnl/Karl Stefan Memorial Fld, VOR RWY 32, Amdt 8A

Wellsville, NY, Wellsville Muni—Tarantine Fld, RNAV (GPS) RWY 10, Amdt 1A

Wellsville, NY, Wellsville Muni—Tarantine Fld, RNAV (GPS) RWY 28, Amdt 1B

Wellsville, NY, Wellsville Muni—Tarantine Fld, Takeoff Minimums and Obstacle DP, Amdt 2A

Newark, OH, KVTA, LOC RWY 9, Orig-B

Newark, OH, KVTA, VOR-A, Amdt 13B

Durant, OK, Durant Rgnl—Eaker Field, VOR RWY 35, Amdt 1, CANCELLED

Butler, PA, KBTP, ILS OR LOC RWY 8, Amdt 10

Punxsutawney, PA, Punxsutawney Muni, VOR/DME-A, Amdt 1B, CANCELLED

Watertown, SD, KATY, LOC BC RWY 17, Amdt 11A

Watertown, SD, KATY, VOR OR TACAN RWY 17, Amdt 17B

Denton, TX, Denton Enterprise, ILS OR LOC RWY 18, Amdt 9B, CANCELLED

Denton, TX, Denton Enterprise, ILS OR LOC RWY 18L, Orig

Denton, TX, Denton Enterprise, NDB RWY 18, Amdt 7B, CANCELLED

Denton, TX, Denton Enterprise, RNAV (GPS) RWY 18, ORIG-B, CANCELLED

Denton, TX, Denton Enterprise, RNAV (GPS) RWY 18L, ORIG

Denton, TX, Denton Enterprise, RNAV (GPS) RWY 18R, ORIG

Denton, TX, Denton Enterprise, RNAV (GPS) RWY 36, Amdt 2C, CANCELLED

Denton, TX, Denton Enterprise, RNAV (GPS) RWY 36L, ORIG

Denton, TX, KDTO, RNAV (GPS) RWY 36R, ORIG

Sherman, TX, KSWI, RNAV (GPS) RWY 16, Orig-B

Sherman/Denison, TX, North Texas Rgnl/Perrin Field, RNAV (GPS) RWY 35R, Orig-C

Cedar City, UT, Cedar City Rgnl, ILS OR LOC RWY 20, Amdt 5

Cedar City, UT, Cedar City Rgnl, RNAV (GPS) RWY 2, Orig

Cedar City, UT, Cedar City Rgnl, RNAV (GPS) RWY 20, Amdt 2

Cedar City, UT, Cedar City Rgnl, VOR RWY 20, Amdt 8

Petersburg, WV, W99, COPTER RNAV (GPS) X RWY 31, Orig-A

[FR Doc. 2020-23957 Filed 10-30-20; 8:45 am]

BILLING CODE 4910-13-P